DEPARTMENT OF ENERGY

Federal Energy Regulatory Commission

Combined Notice of Filings

Take notice that the Commission has received the following Natural Gas Pipeline Rate and Refund Report filings:

Filings Instituting Proceedings

Docket Number: PR20-6-000.

Applicants: Pelico Pipeline, LLC.

Description: Tariff filing per 284.123(b)(2)+(g): Pelico Pipeline, LLC Petition for Rate Approval & Revised SOC to be effective 11/1/2019.

Filed Date: 11/6/19.

Accession Number: 201911065050.

Comments Due: 5 p.m. ET 11/27/19.

284.123(g) Protests Due: 5 p.m. ET 1/6/20.

Docket Number: PR20-7-000.

Applicants: Intrastate Gas LP.

Description: Tariff filing per 284.123(b)(2)+(g): Regency Intrastate Gas LP Petition for Rate Approval & Revised SOC to be effective 11/1/2019.

Filed Date: 11/6/19.

Accession Number: 201911065050.

Comments Due: 5 p.m. ET 11/27/19.

284.123(g) Protests Due: 5 p.m. ET 1/6/20.

Docket Numbers: RP20-208-000.

Applicants: Algonquin Gas Transmission, LLC.

Description: § 4(d) Rate Filing: Nov 2019 Negotiated Rates Cleanup Filing to be effective 12/6/2019.

Filed Date: 11/6/19.

Accession Number: 20191106-5009.

Comments Due: 5 p.m. ET 11/18/19.

Docket Numbers: RP20-209-000.

Applicants: Midcontinent Express Pipeline LLC.

Description: § 4(d) Rate Filing: Balancing Service Charges Penalty Tolerance Filing to be effective 1/1/2020.

Filed Date: 11/6/19.

Accession Number: 20191106-5012.

Comments Due: 5 p.m. ET 11/18/19.

Docket Numbers: RP20-210-000.

Applicants: Rockies Express Pipeline LLC.

Description: § 4(d) Rate Filing: Neg Rate 2019-11-6 ConocoPhillips to be effective 11/6/2019.

Filed Date: 11/6/19.

Accession Number: 20191106-5060.

Comments Due: 5 p.m. ET 11/18/19.

Docket Numbers: RP20-211-000.

Applicants: Transcontinental Gas Pipe Line Company, LLC.

Description: § 4(d) Rate Filing: Momentum Rate Filing—Zone 5-5 to be effective 12/7/2019.

Filed Date: 11/6/19.

Accession Number: 20191106-5160.

Comments Due: 5 p.m. ET 11/18/19.

Docket Numbers: RP20-212-000.

Applicants: Enable Mississippi River Transmission, LLC.

Description: Compliance filing Offer of Settlement of MRT under RP20-131-000 to be effective 12/1/2019.

Filed Date: 11/6/19.

Accession Number: 20191106-5165.

Comments Due: 5 p.m. ET 11/18/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2019.
Kimberly D. Bose,
Secretary.

[FR Doc. 2019-24765 Filed 11-14-19; 8:45 am]

BILLING CODE 6717-01-P